INTERNATIONAL TRADE COMMISSION

[USITC SE-20-010]

Sunshine Act Meetings

AGENCY HOLDING THE MEETING: United States International Trade Commission.

TIME AND DATE: March 19, 2020 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-638 and 731-TA-1473 (Preliminary) (Corrosion Inhibitors from China). The Commission is currently scheduled to complete and file its determination on March 23, 2020; views of the Commission are currently scheduled to be completed and filed on March 30, 2020.

5. Vote on Inv. Nos. 701-TA-618-619 and 731-TA-1441-1442 (Final) (Carbon and Alloy Steel Threaded Rod from China and India). The Commission is currently scheduled to complete and file its determinations and views of the Commission by April 3, 2020.

6. Outstanding action jackets: None.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission.
Issued: March 4, 2020.
William Bishop,
Supervisory Hearings and Information Officer.

[FR Doc. 2020-04791 Filed 3-5-20; 11:15 am]

BILLING CODE 7020-02-P